DEPARTMENT OF COMMERCE

National Oceanic and Atmospheric Administration

[RTID 0648-XD555]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its On-Demand Gear Conflict Working Group to consider actions affecting New England fisheries in the exclusive economic zone (EEZ). Recommendations from this group will be brought to the full Council for formal consideration and action, if appropriate.

DATES: This hybrid meeting will be held on Monday, December 18, 2023, at 9 a.m.

ADDRESSES:

Meeting address: This meeting will be held at the Hilton Garden Inn, 100 Boardman Street, Boston, MA 02128; telephone: (617) 567-6789.

Webinar registration URL information: https://attendee.gotowebinar.com/register/2711271864054869079.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The On-Demand Fishing Gear Conflict Working Group (ODWG) will meet to discuss the analysis of gear conflict remediation measures in regional and Federal fishery management plans as well as the analysis of spatial and temporal overlap of fishing activity with protected species closures. The ODWG will receive a presentation on experimental gillnet gear by Blue Planet Strategies. They will also receive a briefing from NOAA Office of Law Enforcement on on-demand gear training workshop as well as a briefing from NOAA Greater Atlantic Regional Fisheries Office (GARFO) on on-demand gear activities funded by the Inflation Reduction Act. The group will receive a briefing from GARFO on November Interoperability Workshop. Updates on other on-demand gear-related activities will also be discussed. Other business will be discussed, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: November 27, 2023.
Rey Israel Marquez,
Acting Deputy Director, Office of Sustainable Fisheries, National Marine Fisheries Service.

[FR Doc. 2023-26391 Filed 11-30-23; 8:45 am]

BILLING CODE 3510-22-P